DEPARTMENT OF AGRICULTURE

Grain Inspection, Packers and Stockyards Administration

Advisory Committee Meeting

AGENCY: Grain Inspection, Packers and Stockyards Administration, USDA.

ACTION: Notice of advisory committee meeting.

SUMMARY: Pursuant to the Federal Advisory Committee Act, this constitutes notice of the upcoming meeting of the Grain Inspection Advisory Committee (“the Committee”).

DATES: November 1, 2005, 7:30 a.m. to 5 p.m.; and November 2, 2005, 7:30 a.m. to Noon.

ADDRESSES: The Advisory Committee meeting will take place at the Omni Corpus Christi Hotel Bayfront and Marina, 900 North Shoreline Boulevard, Corpus Christi, Texas 78401.

Requests to address the Committee at the meeting or written comments may be sent to: Deputy Administrator, GIPSA, U.S. Department of Agriculture, 1400 Independence Avenue, SW., STOP 3604, Washington, DC 20250-3614. Requests and comments may also be faxed to (202) 690-2755.

FOR FURTHER INFORMATION CONTACT: Ms. Terri Henry, (202) 205-8281 (telephone); (202) 690-2755 (facsimile).

SUPPLEMENTARY INFORMATION: The purpose of the Committee is to provide advice to the Administrator of the Grain Inspection, Packers and Stockyards Administration with respect to the implementation of the U.S. Grain Standards Act (7 U.S.C. 71 et seq.).

The agenda will include a status report on the reauthorization of the U.S. Grain Standards Act, financial update of grain inspection user fee programs, progress report on re-engineering of domestic operations, overview of standards and future plans, and other general Agency issues.

For a copy of the agenda please contact Terri Henry, (202) 205-8281 (telephone); (202) 690-2755 (facsimile) or by e-mail Terri.L.Henry@usda.gov.

Public participation will be limited to written statements, unless permission is received from the Committee Chairman to orally address the Committee. The meeting will be open to the public.

Persons with disabilities who require alternative means of communication of program information or related accommodations should contact Terri Henry, at the telephone number listed above.

James E. Link,
Administrator, Grain Inspection, Packers and Stockyards Administration.

[FR Doc. 05-21345 Filed 10-25-05; 8:45 am]

BILLING CODE 3410-EN-P